ENVIRONMENTAL PROTECTION AGENCY

[FRL-8707-9]

Science Advisory Board Staff Office; Notification of a Upcoming Public Teleconference of the Science Advisory Board Ecological Processes and Effects Committee

AGENCY: Environmental Protection Agency (EPA).

ACTION: Notice.

SUMMARY: The Environmental Protection Agency (EPA or Agency) Science Advisory Board (SAB) Staff Office announces a public teleconference of the SAB Ecological Processes and Effects Committee Augmented for the Advisory on EPA's Aquatic Life Water Quality Criteria. The teleconference is being held to discuss the Committee's draft advisory report.

DATES: The public teleconference will be held on September 16, 2008 from 1 p.m. to 4 p.m. (Eastern Daylight Time).

ADDRESSES: The public teleconference will be conducted by telephone only.

FOR FURTHER INFORMATION CONTACT: Members of the public who wish to obtain the call-in number and access code to participate in the teleconference may contact Dr. Thomas Armitage, Designated Federal Officer (DFO), EPA Science Advisory Board (1400F), U.S. Environmental Protection Agency, 1200 Pennsylvania Avenue, NW., Washington, DC 20460; telephone/voice mail: (202) 343-9995; fax (202) 233-0643; or via e-mail at: armitage.thomas@epa.gov. General information about the EPA SAB, as well as any updates concerning the teleconference announced in this notice, may be found on the SAB Web site at http://www.epa.gov/sab.

SUPPLEMENTARY INFORMATION: Pursuant to the Federal Advisory Committee Act, Public Law 92-463, notice is hereby given that the SAB Ecological Processes and Effects Committee Augmented for the Advisory on EPA's Aquatic Life Water Quality Criteria will hold a public teleconference to discuss their draft report. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA's Office of Water has requested that the SAB provide advice on an EPA white paper describing technical challenges and recommendations concerning derivation of aquatic life water quality criteria for contaminants of emerging concern. The SAB Ecological Processes and Effects Committee, augmented with additional experts, held a teleconference on June 23, 2008 and a meeting on June 30-July 1, 2008 to review the EPA white paper. A Federal Register notice dated June 4, 2008 (73 FR 31864-31865) announced these meetings and provided background information on this advisory activity. Information on the process of augmenting the expertise on the SAB Ecological Processes and Effects Committee was provided in a Federal Register notice dated May 2, 2008 (73 FR 24285-24286). The purpose of this upcoming teleconference is for the Committee to discuss its draft advisory report. Additional information about this advisory activity can be found on the SAB Web site at http://www.epa.gov/sab. A teleconference agenda and the draft SAB advisory report will be posted at the above noted SAB Web site prior to the teleconference.

Availability of Meeting Materials: The teleconference agenda and other materials including the SAB Committee's draft report will be available on the SAB Web site at http://www.epa.gov/sab in advance of the teleconference.

Procedures for Providing Public Input: Interested members of the public may submit relevant written or oral information for the SAB Panel to consider during the advisory process.

Oral Statements: In general, individuals or groups requesting an oral presentation at a public teleconference will be limited to three minutes per speaker, with no more than a total of 30 minutes for all speakers. Interested parties should contact Dr. Armitage, DFO, in writing (preferably via e-mail) at the contact information noted above, by September 9, 2008 to be placed on the list of public speakers for the teleconference.

Written Statements: Written statements should be received in the SAB Staff Office by September 9, 2008 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: August 18, 2008.
Anthony F. Maciorowski,
Deputy Director, EPA Science Advisory Board Staff Office.

[FR Doc. E8-19515 Filed 8-21-08; 8:45 am]

BILLING CODE 6560-50-P